DEPARTMENT OF COMMERCE

National Oceanic and Atmospheric Administration

50 CFR Parts 600 and 648

[Docket No. 051209329-5329-01; I.D. 120205A]

RIN 0648-AT19

Fisheries of the Northeastern United States; Atlantic Mackerel, Squid, and Butterfish Fisheries; Initial Specifications

AGENCY: National Marine Fisheries Service (NMFS), National Oceanic and Atmospheric Administration (NOAA), Commerce.

ACTION: Proposed rule; 2006 specifications.

SUMMARY: NMFS proposes initial specifications for the 2006 fishing year for Atlantic mackerel, squid, and butterfish (MSB). Regulations governing these fisheries require NMFS to publish proposed specifications for the upcoming fishing year and to provide an opportunity for public comment. The intent of this action is to fulfill this requirement and to promote the development and conservation of the MSB resources.

DATES: Public comments must be received no later than 5 p.m., eastern standard time, on January 11, 2006.

ADDRESSES: Copies of supporting documents used by the Mid-Atlantic Fishery Management Council (Council), including the Environmental Assessment (EA) and Regulatory Impact Review (RIR)/Initial Regulatory Flexibility Analysis (IRFA), are available from: Daniel Furlong, Executive Director, Mid-Atlantic Fishery Management Council, Room 2115, Federal Building, 300 South New Street, Dover, DE 19904-6790. The EA/RIR/IRFA is accessible via the Internet at http://www.nero.nmfs.gov.

Written comments on the proposed rule may be sent by any of the following methods:

• Electronically through the Federal e-Rulemaking portal: http://www.regulations.gov;

• Mail to Patricia A. Kurkul, Regional Administrator, NMFS, Northeast Regional Office, One Blackburn Drive, Gloucester, MA 01930. Mark the outside of the envelope “Comments on SMB Specifications 2006”;

• Fax to Patricia A. Kurkul, (978) 281-9135; or

• E-mail to the following address: SMBSpecs2006@noaa.gov. Include in the subject line of the e-mail comment the following document identifier: “Comments on SMB Specifications 2006.”

FOR FURTHER INFORMATION CONTACT: Eric Jay Dolin, Fishery Policy Analyst, (978) 281-9259, fax (978) 281-9135.

SUPPLEMENTARY INFORMATION:

Background

Regulations implementing the Fishery Management Plan for the Atlantic Mackerel, Squid, and Butterfish Fisheries (FMP) appear at 50 CFR part 648, subpart B. Regulations governing foreign fishing appear at 50 CFR part 600, subpart F. These regulations, at § 648.21 and § 600.516(c), require that NMFS, based on the maximum optimum yield (Max OY) of each fishery as established by the regulations, annually publish a proposed rule specifying the amounts of the initial optimum yield (IOY), allowable biological catch (ABC), domestic annual harvest (DAH), and domestic annual processing (DAP), as well as, where applicable, the amounts for total allowable level of foreign fishing (TALFF) and joint venture processing (JVP) for the affected species managed under the FMP. In addition, these regulations allow Loligo squid specifications to be specified for up to 3 years, subject to annual review. The regulations found in § 648.21 also specify that IOY for squid is equal to the combination of research quota and DAH, with no TALFF specified for squid. For butterfish, the regulations specify that a butterfish bycatch TALFF will be specified only if TALFF is specified for Atlantic mackerel.

In addition, the regulations at § 648.21(g) allow the specification of research quotas (RQ) to be used for research purposes. For 2006, the Council recommended the consideration of RQs of up to 3 percent of IOY for Atlantic mackerel, butterfish, and squids. The RQs would fund research and data collection for those species. A Request for Research Proposals was published to solicit proposals for 2006 based on research priorities previously identified by the Council (70 FR 20104, April 18, 2005). The deadline for submission was May 18, 2005. On June 16, 2005, NMFS convened a Review Panel to review the comments submitted by technical reviewers. Based on discussions between NMFS staff, technical review comments, and Review Panel comments, one project proposal requesting Loligo squid set-aside landings was recommended for approval and will be forwarded to the NOAA Grants Office for award, for a total RQ of 127.5 mt. Consistent with the recommendations, the quotas in this proposed rule have been adjusted to reflect the project recommended for approval. If the award is not made by the NOAA Grants Office for any reason, NMFS will give notice of an adjustment to the annual quota to return the unawarded set-aside amount to the fishery.

Table 1 contains the proposed initial specifications for the 2006 Atlantic mackerel, Loligo and Illex squids, and butterfish fisheries.

Table 1. Proposed Initial Annual Specifications, in Metric Tons (mt), for Atlantic Mackerel, Squid, and Butterfish for the Fishing Year January 1 through December 31, 2006
Specifications | Loligo | Illex | Mackerel | Butterfish
Max OY | 26,000 | 24,000 | N/A | 12,175
ABC | 17,000 | 24,000 | 335,000 | 4,545
IOY | 16,872.5¹ | 24,000 | 115,000² | 1,681
DAH | 16,872.5 | 24,000 | 115,000³ | 1,681
DAP | 16,872.5 | 24,000 | 100,000 | 1,681
JVP | 0 | 0 | 0 | 0
TALFF | 0 | 0 | 0 | 0
¹ Excludes 127.5 mt for Research Quota (RQ).
² IOY may be increased during the year, but the total ABC will not exceed 335,000 mt
³ Includes 15,000 mt of Atlantic mackerel recreational allocation.

2006 Proposed Specifications

Atlantic Mackerel

Overfishing for Atlantic mackerel is defined by the FMP to occur when the catch associated with a threshold fishing mortality rate (F) of FMSY (the F that produces MSY (maximum sustainable yield)) is exceeded. When spawning stock biomass (SSB) is greater than 890,000 mt, the maximum F threshold is FMSY (0.45), and the target F is 0.25. To avoid low levels of recruitment, the FMP contains a control rule whereby the threshold F decreases linearly from 0.45 at 890,000 mt SSB to zero at 225,000 mt SSB (1/4 of the biomass level that would produce MSY on a continuing basis (BMSY)), and the target F decreases linearly from 0.25 at 890,000 mt SSB to zero at 450,000 mt SSB (1/2 BMSY). Annual quotas are specified that correspond to the target F resulting from this control rule.

The most recent estimate of Atlantic mackerel stock biomass was 2.1 million mt. Since SSB is currently above 890,000 mt, the target F for 2006 is 0.25. According to the Altantic mackerel, squid, and butterfish regulations, mackerel ABC must be calculated using the formula ABC = T - C, where C is the estimated catch of mackerel in Canadian waters for the upcoming fishing year and T is the yield associated with a fishing mortality rate that is equal to the target F. The yield associated with the target F=0.25 is 369,000 mt. The estimated Canadian catch is 34,000 mt. Thus, 369,000 mt minus 34,000 mt results in and ABC of 335,000 mt.

The Council recommends an IOY of 115,000 mt, arguing that this level would provide the greatest overall benefit to the Nation with respect to food production and recreational opportunities. This level of IOY was also adopted because the Council believes that it allows for a significant increase in domestic landings, which have increased in the last several years due to major investments in the domestic mackerel processing sector. This level of IOY represents a modification of MSY based on economic and social factors (the mackerel regulations at § 648.21(b)(2)(ii) state that, “IOY is a modification of ABC, based on social and economic factors, and must be less than or equal to ABC”). The Council expressed its concern, supported by industry testimony, that an allocation of TALFF would threaten the expansion of the domestic industry (the Magnuson-Stevens Fishery Conservation and Management Act provides that the specification of TALFF, if any, shall be that portion of the optimum yield (OY) of a fishery that will not be harvested by vessels of the United States). TALFF catches would allow foreign vessels to harvest U.S. fish and sell their product on the world market, in direct competition with the U.S. industry efforts to expand exports. The Council noted that this would prevent the U.S. industry from taking advantage of declines in the European production of Atlantic mackerel that have resulted in an increase in world demand for U.S. fish. The only economic benefit associated with a TALFF is the foreign fishing fees it generates. On the other hand, there are economic benefits associated with the development of the domestic mackerel fishery. Increased mackerel production generates jobs both for plant workers and other support industries. More jobs generate additional sources of income for people resident in coastal communities and generally enhance the social fabric of these communities.

For these reasons, the Council concluded, and NMFS agrees, that the specification of an IOY at a level that can be fully harvested by the domestic fleet, thereby precluding the specification of a TALFF, will assist the U.S. mackerel industry to expand and will yield positive social and economic benefits to both U.S. harvesters and processors. Given the trends in landings, and the industry's testimony that the fishery is poised for significant growth, NMFS concludes that it is reasonable to assume that in 2006 the commercial fishery will harvest 100,000 mt of mackerel. Thus DAH would be 115,000 mt, which is the commercial harvest plus the 15,000 mt allocated for the recreational fishery. Because IOY = DAH, this specification is consistent with the Council's recommendation that the level of IOY should not provide for a TALFF.

NMFS also agrees with the Council's recommendation to specify JVP at zero (as compared with 5,000 mt of JVP in 2004). In previous years, the Council specified JVP greater than zero because it believed U.S. processors lacked the capability to process the total amount of mackerel that U.S. harvesters could land. The Council has been systematically reducing JVP because it concluded that the surplus between DAH and DAP has been declining as U.S. shoreside processing capacity for mackerel has expanded over the last several years. The Council received testimony from processors and harvesters that the shoreside processing sector of this industry has been undergoing significant expansion since 2002-2003. As a result of this expansion, the Council concluded that shoreside processing capacity was no longer a limiting factor relative to domestic production of mackerel. The Council, therefore, concluded that the U.S. mackerel processing sector has the potential to process the DAH, so JVP would be specified at zero.

Atlantic Squids

Loligo squid

In 2004, the Council specified the annual quota and other measures for Loligo squid for a period of up to 3 years (i.e., 2004 - 2007). After a review of available information, the Council recommended no change to the Loligo quota or other measures in 2006, and NMFS concurs with this recommendation. Based on a research project approved for 2006, the Council recommended that the RQ for scientific research for Loligo squid not exceed 127.5 mt. The 2006 proposed Max OY for Loligo squid is 26,000 mt, the recommended ABC for the 2006 fishery is 17,000 mt, and the IOY is 16,872.5 mt, which takes into account the 127.5 mt RQ. The FMP does not authorize the specification of JVP and TALFF for the Loligo squid fishery, because of the domestic industry's capacity to harvest and process the OY for this fishery; therefore, JVP and TALFF are zero.

Distribution of the Annual Loligo Squid Quota

Since 2001, the annual DAH for Loligo squid has been allocated into quarterly periods. The Council and NMFS recommend no change from the 2005 quarterly distribution system. Due to the recommendation of a research project that would utilize Loligo squid RQ, this proposed rule would adjust the quarterly allocations from those that were proposed, based on formulas specified in the FMP. The 2006 quarterly allocations would be as follows:

Table 2. Percent Allocations of Loligo Quota
Quarter | Percent | Metric Tons¹ | RQ
I (Jan-Mar) | 33.23 | 5,606.70 | N/A
II (Apr-Jun) | 17.61 | 2,971.30 | N/A
III (Jul-Sep) | 17.30 | 2,918.90 | N/A
IV (Oct-Dec) | 31.86 | 5,375.60 | N/A
Total | 100 | 16,872.50 | 127.5
¹ Quarterly allocations after 127.5 mt RQ deduction.

Also unchanged from 2005, the 2006 directed fishery would be closed in Quarters I-III when 80 percent of the period allocation is harvested, with vessels restricted to a 2,500-lb (1,134-kg) Loligo squid trip limit per single calender day until the end of the respective quarter. The directed fishery would close when 95 percent of the total annual DAH has been harvested, with vessels restricted to a 2,500-lb (1,134-kg) Loligo squid trip limit per single calender day for the remainder of the year. Quota overages from Quarter I would be deducted from the allocation in Quarter III, and any overages from Quarter II would be deducted from Quarter IV. By default, quarterly underages from Quarters II and III carry over into Quarter IV, because Quarter IV does not close until 95 percent of the total annual quota has been harvested. Additionally, if the Quarter I landings for Loligo squid are less than 80 percent of the Quarter I allocation, the underage below 80 percent is applied to Quarter III.

Illex squid

The Council recommended maintaining the Illex specifications in 2006 at the same levels as they were for the 2005 fishing year. NMFS concurs with this recommendation; thus, the specification of Max OY, IOY, ABC and DAH would be 24,000 mt. The overfishing definition for Illex squid states that overfishing for Illex squid occurs when the catch associated with a threshold fishing mortality rate of FMSY is exceeded. Max OY is specified as the catch associated with a fishing mortality rate of FMSY, while DAH is specified as the level of harvest that corresponds to a target fishing mortality rate of 75 percent FMSY. The biomass target is specified as BMSY. The minimum biomass threshold is specified as 1/2 BMSY.

In September 2003, the results of an updated assessment of the Illex squid stock (the 37th Northeast Regional Stock Assessment Workshop; SAW-37) were released. SAW-37 concluded that overfishing was not likely to have occurred during the period 1992-2002. SAW-37 found that it was not possible to evaluate the current biomass status for Illex squid relative to BMSY because the size of the stock could not be reliably estimated. SAW 37 noted that, since 1999, the Northeast Fishery Science Center (NEFSC) autumn survey abundance indices have been below the 1982-2002 average, but that it could not determine whether this trend is due to low abundance, low availability or both. The assessment noted that surface and bottom water temperatures in the Mid-Atlantic Bight have been warmer than average during recent years, and that Illex abundance and biomass indices from the autumn surveys were significantly negatively correlated with bottom water temperature anomalies from the autumn surveys. SAW 37 concluded that this likely indicates an environmental effect on productivity. While landings have been below the 1982-2002 average since 1998, SAW 37 found that this could be due to the reduced effort observed during the time period, low biomass or both factors.

SAW 37 cautioned that, under current stock conditions, a DAH of 24,000 mt, which assumes a stock at BMSY, may not be sufficient to prevent overfishing. It also cautioned that the existing overfishing definition, which is based on FMSY, is not only difficult to estimate given the available information, but may also perform poorly given the stock's production dynamics. In addition, SAW 37 recommended that, given uncertainties in the stock distribution and population biology, the fishery should be managed in relation to the proportion of the stock on the continental shelf and available to U.S. fisheries. However, SAW 37 did not recommend specific action. The assessment also noted that more knowledge of Illex is necessary to respond to these concerns. While cooperative research efforts are underway, there is currently no information to use to construct an alternative recommendation.

Despite the cautions within SAW 37, the assessment also concluded that it was unlikely that overfishing occurred during 1999-2002 for several reasons. Many of these reasons remain applicable to the proposal to maintain DAH at 24,000 mt for 2006. The reasons are: (1) The current small fleet size and effort levels make it unlikely that the fishery could exert the very high fishing mortality rate required to exceed the level recommended in the assessment (F50%), (2) the short fishing season makes high annual average fishing mortality rates unlikely, (3) the restricted geographical distribution of the fishery makes high annual average fishing mortality rates for the entire stock unlikely, (4) relative exploitation indices have declined considerably since 1999 and have been below the 1982-2002 median since then, and (5) preliminary model results indicate that fishing mortality rates as high as F50% are unlikely to have occurred even during 1999, when relative fishing mortality was the highest in recent years.

Therefore, NMFS proposes that the annual specifications for Illex squid should remain unchanged for 2006, agreeing with the Council that there is no basis for concluding that the specifications are likely to result in overfishing. As the Council noted, the management program for Illex requires the directed fishery to be closed when 95 percent of the quota (22,800 mt) is harvested. While incidental landings are allowed following this closure, the amount of Illex caught incidentally by vessels targeting other species is limited due to the specialized nature of the Illex fishery. Illex is harvested offshore near the edge of the continental shelf during the summer. The species spoils quickly, so freezing or refrigerated seawater equipment must be utilized to prevent spoilage. Similar to Loligo squid, when a trip limit is in effect, vessels are prohibited from possessing or landing more than the specified amount in a single calendar day, which is 10,000 lb (4,536 kg). Few vessels are expected to invest in the necessary equipment to pursue Illex under the incidental catch allowance. Furthermore, if evidence were to become available in 2006 that overfishing was occurring, the current FMP allows for in-season adjustments to the IOY.

The FMP does not authorize the specification of JVP and TALFF for the Illex squid fishery because of the domestic fishing industry's capacity to harvest and to process the OY from this fishery.

Butterfish

The Council recommended maintaining the butterfish specifications in 2006 at the same levels as they were for the 2005 fishing year; NMFS concurs with this recommendation. Thus, the proposed specifications would set IOY at 1,681 mt to achieve the target fishing mortality rate (75 percent of FMSY) specified in the FMP based on the most recent stock assessment for the species (Stock Assessment Review Committee (SARC) 38). Based on that assessment and assuming that biomass in 2006 will be nominally the same as 2000-2002, then the catch associated with the target F would be 2,242 mt, and this forms the basis for the specification of butterfish ABC of 4,545 mt. Assuming that the discard-to-landing ratio remains constant, then IOY, DAH, and DAP = 1,681 mt (i.e., the allowable landings equals ABC less estimated discards, which are roughly twice landings). NMFS supports this recommended level of landings because it should achieve the target fishing mortality rate and allow for stock rebuilding.

Classification

This action is authorized by 50 CFR part 648 and has been determined to be not significant for purposes of Executive Order 12866 (E.O. 12866).

The Council prepared an IRFA, as required by section 603 of the Regulatory Flexibility Act, which describes the economic impacts this proposed rule, if adopted, would have on small entities. A copy of the IRFA can be obtained from the Council or NMFS (see ADDRESSES) or via the Internet at http://www.nero.noaa.gov. A summary of the analysis follows:

Statement of Objective and Need

A description of the reasons why this action is being considered, and the objectives of and legal basis for this action, is contained in the preamble to this proposed rule and is not repeated here.

Description and Estimate of Number of Small Entities to Which the Rule Will Apply

The number of potential fishing vessels in the 2006 fisheries are 406 for Loligo squid/butterfish, 80 for Illex squid, 2,414 for Atlantic mackerel, and 2,016 vessels with incidental catch permits for squid/butterfish, based on vessel permit issuance. There are no large entities participating in this fishery, as defined in section 601 of the RFA. Therefore, there are no disproportionate economic impacts on small entities. Many vessels participate in more than one of these fisheries; therefore, the numbers are not additive.

Description of Projected Reporting, Recordkeeping, and Other Compliance Requirements

This action does not contain any new collection-of-information, reporting, recordkeeping, or other compliance requirements. It does not duplicate, overlap, or conflict with any other Federal rules.

Minimizing Significant Economic Impacts on Small Entities

The IOY specification under the proposed action for Atlantic mackerel (115,000 mt, with 15,000 mt allocated to recreational catch) represents no constraint on vessels in this fishery. This level of landings has not been achieved by vessels in this fishery in recent years. Mackerel landings for 2001-2003 averaged 24,294 mt; in 2003 they were 30,738 mt; and for 2004 they were 53,781 mt. Therefore, no reductions in revenues for the mackerel fishery is expected as a result of the proposed action. However, there is likely to be an increase in revenues as a result of the proposed action. Based on 2004 data, the mackerel fishery could increase its landings by 46,219 mt in 2006, if it takes the entire IOY. In 2003, the last year with complete financial data, the average value for mackerel was $234 per mt. Using this value, the mackerel fishery could see an increase in revenues of $10,815,246 as a result of the proposed action.

The IOY specification under the proposed action for Illex (24,000 mt) represents a slight constraint on revenues in this fishery, as compared to the landings in 2004. Illex landings for 2001-2003 averaged 4,350 mt; in 2003 they were 6,389 mt; and in 2004 they were 25,059 mt. Therefore, the proposed action represents a reduction in landings, from 2004, of 1,059 mt. In 2003, the last year with complete financial data, the average value for Illex was $626 per mt. Using this value, the Illex fishery could see a decrease in revenues of $662,934 as a result of the proposed action. But, it is important to note that the Illex landings for 2004 were 4.4 percent more than the quota for that year allowed. The goal of fisheries management is to avoid exceeding the quotas. Thus, the better comparison to use, in evaluating the impact of the proposed action, is how that action compares to what would have happened had the 2004 landings reached, but not exceeded the quota. If the quota had not been exceeded in 2004, then the proposed action would not represent a reduction in landings. As a result, there would be no reduction in revenues from the implementation of the proposed action, and that action would represent no restraint on the fishery in 2006.

Under the proposed specifications for butterfish (IOY = 1,681 mt), landings would not be constrained relative to the 2001-2004 fisheries. During the period 2001-2004, butterfish landings averaged 1,535 mt. Compared to the most recent 2 years for which complete information is available, 2003 and 2004, when landings were 473 mt and 422 mt, respectively, the proposed action would not be expected to reduce revenues in this fishery, but would rather increase those revenues. Based on 2003 data, the value of butterfish was $1,269 per mt.

The Council analysis evaluated two alternatives for mackerel. Both of them would have set IOY at 165,000 mt. This IOY does not represent a constraint on vessels in this fishery, so no impacts on revenues in this fishery would be expected as a result of these alternatives. One of these alternatives would have set the ABC at 347,000 mt. This was rejected on biological grounds because that level of ABC is not consistent with the overfishing rule adopted in Amendment 8 to the FMP (F=0.25 yield estimate of 369,000 mt minus the estimated Canadian catch of 34,000 mt). Furthermore, the Atlantic mackerel alternatives that would set IOY at 165,000 mt were rejected because they were set too high in light of social and economic concerns relating to TALFF. The specification of TALFF would have limited the opportunities for the domestic fishery to expand, and therefore would have resulted in negative social and economic impacts to both U.S. harvesters and processors (for a full discussion of the TALFF issue, please see the earlier section on Atlantic mackerel).

For Illex, one alternative considered would have set Max OY, ABC, IOY, DAH, and DAP at 30,000 mt. This alternative would allow harvest far in excess of recent landings in this fishery. Therefore, there would be no constraints and, thus, no revenue reductions, associated with these specifications. However, the Council considered this alternative unacceptable because an ABC specification of 30,000 mt may not prevent overfishing in years of moderate to low abundance of Illex squid.

For butterfish, one alternative considered would have set IOY at 5,900 mt, while another would have set it at 9,131 mt. These amounts exceed the landings of this species in recent years. Therefore, neither alternative represents a constraint on vessels in this fishery or would reduce revenues in the fishery. However, both of these alternatives were rejected because they would likely result in overfishing and the additional depletion of the spawning stock biomass.

Authority

16 U.S.C. 1801 et seq.

Dated: December 20, 2005.
James W. Balsiger,
Acting Deputy Assistant Administrator for Regulatory Programs, National Marine Fisheries Service.

[FR Doc. E5-7849 Filed 12-23-05; 8:45 am]

BILLING CODE 3510-22-S